SECURITIES AND EXCHANGE COMMISSION

[File No. 500-1]

Aspen Group Resources Corp., Commercial Concepts, Inc., Desert Health Products, Inc., Equalnet Communications Corp., Geneva Steel Holdings Corp., Orderpro Logistics, Inc. (n/k/a Securus Renewable Energy, Inc.), and Sepragen Corp.; Order of Suspension of Trading

March 19, 2010.

It appears to the Securities and Exchange Commission that there is a lack of current and accurate information concerning the securities of Aspen Group Resources Corp. because it has not filed any periodic reports since the period ended December 31, 2003.

It appears to the Securities and Exchange Commission that there is a lack of current and accurate information concerning the securities of Commercial Concepts, Inc. because it has not filed any periodic reports since the period ended November 30, 2002.

It appears to the Securities and Exchange Commission that there is a lack of current and accurate information concerning the securities of Desert Health Products, Inc. because it has not filed any periodic reports since the period ended December 31, 2005.

It appears to the Securities and Exchange Commission that there is a lack of current and accurate information concerning the securities of Equalnet Communications Corp. because it has not filed any periodic reports since the period ended March 31, 2000.

It appears to the Securities and Exchange Commission that there is a lack of current and accurate information concerning the securities of Geneva Steel Holdings Corp. because it has not filed any periodic reports since the period ended September 30, 2001.

It appears to the Securities and Exchange Commission that there is a lack of current and accurate information concerning the securities of Orderpro Logistics, Inc. (n/k/a Securus Renewable Energy, Inc.) because it has not filed any periodic reports since the period ended September 30, 2004.

It appears to the Securities and Exchange Commission that there is a lack of current and accurate information concerning the securities of Sepragen Corp. because it has not filed any periodic reports since the period ended September 30, 2002.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on March 19, 2010, through 11:59 p.m. EDT on April 1, 2010.

By the Commission.
Florence E. Harmon,
Deputy Secretary.

[FR Doc. 2010-6447 Filed 3-19-10; 11:15 am]

BILLING CODE 8011-01-P